DEPARTMENT OF HEALTH AND HUMAN SERVICES

Centers for Disease Control and Prevention

[30Day-24-1319]

Agency Forms Undergoing Paperwork Reduction Act Review

In accordance with the Paperwork Reduction Act of 1995, the Centers for Disease Control and Prevention (CDC) has submitted the information collection request titled ”National Surveillance of Community Water Systems and Corresponding Populations with the Recommended Fluoridation Level” to the Office of Management and Budget (OMB) for review and approval. CDC previously published a “Proposed Data Collection Submitted for Public Comment and Recommendations” notice on August 21, 2023 to obtain comments from the public and affected agencies. CDC received three comments related to the previous notice. All comments were determined to be outside the scope of this project. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Surveillance of Community Water Systems and Corresponding Populations with the Recommended Fluoridation Level (OMB Control No. 0920-1319, Exp. 2/29/2024)—Extension—National Center for Chronic Disease Prevention and Health Promotion (NCCDPHP), Centers for Disease Control and Prevention (CDC).

Background and Brief Description

Community water fluoridation is the process of adjusting the fluoride concentration of a community water system (CWS) to the level beneficial for prevention of dental caries as recommended by the US Public Health Service (PHS). CWS fluoridation is a major factor contributing to the large decline in caries in the U.S. in the past 75 years and is recognized as one of 10 great public health achievements of the twentieth century. Community water fluoridation reduces dental caries by 25% and is a safe and the most cost-effective way to deliver fluoride to people of all ages, regardless of education and income level. It is especially important for populations with limited access to preventive dental measures.

CDC is authorized to collect the information under the Public Health Service Act. This data collection aligns with CDC's strategy to use public health surveillance to inform programs and policies to improve the oral health of the nation by reducing disparities and expanding access to effective prevention programs. CDC uses the Water Fluoridation Reporting System (WFRS) to collect water fluoridation coverage and quality throughout the US. Respondents to the information collection are state fluoridation managers or other state government officials designated by the state dental director or drinking water administrator. State participation in the data collection is voluntary. This data allows CDC and states to monitor the performance and efficiency of their water fluoridation programs, which will improve and extend program delivery.

CDC requests OMB approval for an estimated 2,783 annual burden hours. There is no cost to respondents other than their time to participate.

Estimated Annualized Burden Hours
Type of respondents | Form name | Number of respondents | Number of responses per respondent | Average burden per response (in hours)
State Official | Fluoridation status and population | 50 | 1 | 37.5
State Official | Fluoride testing data | 33 | 1 | 27.5

Jeffrey M. Zirger,
Lead, Information Collection Review Office, Office of Public Health Ethics and Regulations, Office of Science, Centers for Disease Control and Prevention.

[FR Doc. 2024-00717 Filed 1-16-24; 8:45 am]

BILLING CODE 4163-18-P